DEPARTMENT OF EDUCATION

Privacy Act of 1974; System of Records—Evaluation of Response to Intervention Practices for Elementary School Reading

AGENCY: Institute of Education Sciences, Department of Education.

ACTION: Notice of a new system of records.

SUMMARY: In accordance with the Privacy Act of 1974, as amended, 5 U.S.C. 552a (Privacy Act), the Department of Education (Department) publishes this notice of a new system of records entitled “Evaluation of Response to Intervention Practices for Elementary School Reading” (18-13-30). The National Center for Education Evaluation and Regional Assistance at the Department's Institute of Education Sciences (IES) commissioned this evaluation as part of the congressionally mandated national assessment of the Individuals with Disabilities Education Act (IDEA). It is being conducted under a contract that IES awarded in March 2008.

The central research questions that the study will address are:

(1) What is the average impact on academic achievement of providing intensive secondary reading interventions to elementary school children who have been identified as at risk for reading difficulties compared with children just above the cutoff point for providing intervention?

(2) How do academic outcomes, including reading achievement and special education identification, vary with elementary schools' adoption of Response to Intervention practices for early grade reading?

(3) How do Response to Intervention practices for early grade reading vary across elementary schools, and how are they related to academic outcomes?

The information contained in the records maintained in this system will be used for statistical purposes. The system will contain records on approximately 31,076 students in first through third grade, 1,460 teachers, and 1,606 reading interventionists in 146 elementary schools in 13 states.

DATES: The Department seeks comment on the new system of records described in this notice, in accordance with the requirements of the Privacy Act. We must receive your comments on the proposed routine uses for the system of records referenced in this notice on or before June 10, 2013.

The Department filed a report describing the new system of records covered by this notice with the Chair of the Senate Committee on Homeland Security and Governmental Affairs, the Chair of the House Committee on Oversight and Government Reform, and the individual delegated the authority to perform the functions and duties of the Administrator of the Office of Information and Regulatory Affairs, Office of Management and Budget (OMB) on May 6, 2013. This system of records will become effective at the later of (1) the expiration of the 40-day period for OMB review on June 5, 2013, unless OMB waives 10 days of the 40-day review period for compelling reasons shown by the Department, or (2) June 10, 2013, unless the system of records needs to be changed as a result of public comment or OMB review.

ADDRESSES: Address all comments about the proposed routine uses to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send comments through the Internet, use the following address: comments@ed.gov.

You must include the phrase “Evaluation of Response to Intervention Practices for Elementary School Reading” in the subject line of the electronic message.

During and after the comment period, you may inspect all comments about this notice at the Department in room 502D, 555 New Jersey Avenue NW., Washington, DC, between the hours of 8:00 a.m. and 4:30 p.m., Washington, DC time, Monday through Friday of each week except Federal holidays.

Assistance to Individuals With Disabilities in Reviewing the Rulemaking Record

On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Audrey Pendleton. Telephone: (202) 208-7078. If you use a telecommunications device for the deaf (TDD) or a text telephone (TTY), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contains individually identifying information and that is retrieved by a unique identifier associated with each individual, such as a name or Social Security number. The information about each individual is called a “record,” and the system, whether manual or computer based, is called a “system of records.”

Whenever the agency publishes a new system of records or makes a significant change to an established system of records, the Privacy Act requires each agency to publish a notice of a system of records in the Federal Register. Each agency is also required to send copies of the report to the Administrator of the Office of Information and Regulatory Affairs at OMB, the Chair of the Senate Committee on Homeland Security and Governmental Affairs, and the Chair of the House Committee on Oversight and Government Reform. These reports are included to permit an evaluation of the probable effect of the proposal on the privacy rights of individuals.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 6, 2013.
John Q. Easton,
Director, Institute of Education Sciences.

For the reasons discussed in the preamble, the Director of the Institute of Education Sciences (Director), U.S. Department of Education, publishes a notice of a new system of records to read as follows:

SYSTEM NUMBER:

18-13-30

SYSTEM NAME:

Evaluation of Response to Intervention Practices for Elementary School Reading.

SECURITY CLASSIFICATION:

None.

SYSTEM LOCATIONS:

(1) Evaluation Division, National Center for Education Evaluation and Regional Assistance, Institute of Education Sciences (IES), U.S. Department of Education (Department), 555 New Jersey Avenue NW., Room 502D, Washington, DC 20208-0001.

(2) MDRC, 19th Floor, 16 E. 34th Street, New York, NY 10016-4326 (contractor).

(3) Survey Research Management, 4909 Nautilus Court North, Suite 220, Boulder, CO 80301-3692 (subcontractor).

CATEGORIES OF INDIVIDUALS COVERED BY THE SYSTEM:

The system will contain records on approximately 31,076 students in first through third grade, 1,460 teachers, and 1,606 reading interventionists in 146 elementary schools in 13 states.

CATEGORIES OF RECORDS IN THE SYSTEM:

The system of records will include personally identifying information about students in elementary schools that have agreed to participate in the evaluation. This information will include: Name; birth date; demographic information such as race, ethnicity, gender, age, and eligibility for free or reduced price lunches; English Learner status; grade level; receipt of reading instruction and interventions; special education status and disability category; and scores on reading achievement tests. In addition, the system will include personally identifying information about reading teachers and reading interventionists within participating elementary schools, including names, educational attainment, teaching experience, training, and instructional practices.

AUTHORITY FOR MAINTENANCE OF THE SYSTEM:

This evaluation is authorized under Section 664 of Part D of the Individuals with Disabilities Education Act, 20 U.S.C. 1464 (IDEA).

PURPOSE(S):

The information contained in the records maintained in this system will be used for statistical purposes to evaluate the implementation and effectiveness of Response to Intervention practices and related coordinated early intervening services authorized under the IDEA. This information will also help school districts and school administrators design and implement more effective Response to Intervention programs. The central research questions that the study will address are:

(1) What is the average impact on academic achievement of providing intensive secondary reading interventions to elementary school children who have been identified as at risk for reading difficulties compared with children just above the cutoff point for providing intervention?

(2) How do academic outcomes, including reading achievement and special education identification, vary with elementary schools' adoption of Response to Intervention practices for early grade reading?

(3) How do Response to Intervention practices for early grade reading vary across elementary schools, and how are they related to academic outcomes?

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended, 5 U.S.C. 552a (Privacy Act), under a computer matching agreement. Any disclosure of individually identifiable information from a record in this system must comply with the requirements of section 183 of the Education Sciences Reform Act, 20 U.S.C. 9573 (ESRA), which provides confidentiality standards that apply to all collection, reporting, and publication of data by IES.

(1) Research Disclosure. The Director of IES may license de-identified confidential information from this system of records to qualified external researchers solely for the purpose of carrying out specific research that is compatible with the purpose of this system of records. The researcher shall be required to maintain safeguards with respect to such records under the Privacy Act and the ESRA. The researcher shall be required to maintain the confidentiality of the licensed data and use it only for statistical purposes. All licensing will be accomplished pursuant to the National Center for Education Statistics Licensing Program, described in the following Web site: http://nces.ed.gov/statprog/instruct.asp. When personally identifiable information from a student's education records will be disclosed to the researcher under the Family Educational Rights and Privacy Act, 20 U.S.C. 1232g (FERPA), the researcher also shall be required to comply with the requirements in the applicable FERPA exception to consent, such as a written agreement between the researcher and IES pursuant to the written agreement requirements under FERPA.

(2) Contract Disclosure. If the Department contracts with an entity to perform any function that requires disclosure of records in this system to the contractor's employees, the Department may disclose the records to those employees who have received the appropriate level of security clearance from the Department. Before entering into such a contract, the Department will require the contractor to establish and maintain the safeguards required under the Privacy Act (5 U.S.C. 552a(m)) with respect to the records in the system.

DISCLOSURE TO CONSUMER REPORTING AGENCIES:

None.

POLICIES AND PRACTICES FOR STORING, RETRIEVING, ACCESSING, RETAINING, AND DISPOSING OF RECORDS IN THE SYSTEM:

STORAGE:

The Department maintains records on CD-ROM, and the contractor (MDRC) and subcontractor (Survey Research Management) maintain data for this system on computers and in hard copy.

RETRIEVABILITY:

Records in this system are indexed and retrieved by a number assigned to each individual that is cross-referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a need-to-know basis, and controls individual users' ability to access and alter records within the system. The contractor and subcontractor will establish a similar set of procedures at their sites to ensure confidentiality of data. The contractor and subcontractor are required to ensure that information identifying individuals is in files physically separated from other research data. The contractor and subcontractor will maintain security of the complete set of all master data files and documentation. Access to individually identifying data will be strictly controlled. All data will be kept in locked file cabinets during nonworking hours, and work on hardcopy data will take place in a single room, except for data entry.

Physical security of electronic data will also be maintained. Security features that protect project data include: password-protected accounts that authorize users to use the contractor's and subcontractor's systems but to access only specific network directories and network software; user rights and directory and file attributes that limit those who can use particular directories and files and determine how they can use them; and additional security features that the network administrators will establish for projects as needed. The Department's, contractor's, and subcontractor's employees who “maintain” (collect, maintain, use, or disseminate) data in this system shall comply with the requirements of the Privacy Act and the confidentiality standards in section 183 of the ESRA, which provides criminal penalties for violations.

RETENTION AND DISPOSAL:

These records are covered by a draft records schedule under development, ED 231 Research and Statistics Records. This schedule shall be submitted to NARA for review and approval when complete. Until such time as it is approved by NARA, no records shall be destroyed.

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you or your child in the system of records, contact the system manager at the address listed under

SYSTEM MANAGER AND ADDRESS:

Your request must meet the requirements of the Department's Privacy Act regulations at 34 CFR 5b.5, including proof of identity.

RECORD ACCESS PROCEDURE:

If you wish to gain access to your or your child's record in the system of records, contact the system manager at the address listed under SYSTEM MANAGER AND ADDRESS. Your request must meet the requirements of the Department's Privacy Act regulations at 34 CFR 5b.5, including proof of identity.

CONTESTING RECORD PROCEDURE:

If you wish to contest the content of a record regarding you or your child in the system of records, contact the system manager at the address listed under SYSTEM MANAGER AND ADDRESS. Your request must meet the requirements of the Department's Privacy Act regulations at 34 CFR 5b.7, including proof of identity, specification of the particular record you are seeking to have changed, and the written justification for making such a change.

RECORD SOURCE CATEGORIES:

This system will contain records on students, teachers, and reading interventionists participating in the Evaluation of Response to Intervention Practices for Elementary School Reading. Data will be obtained through student records maintained by the school districts, assessments administered to students, and surveys of teachers and reading interventionists.

EXEMPTIONS CLAIMED FOR THE SYSTEM:

None.

[FR Doc. 2013-11062 Filed 5-8-13; 8:45 am]

BILLING CODE 4000-01-P